EXECUTIVE OFFICE OF THE PRESIDENT

Office of National Drug Control Policy

Paperwork Reduction Act; Proposed Collection; Comment Request; Revisions of Currently Approved Collection: Drug-Free Communities (DFC) Support Program and CARA Local Drug Crisis Program National Evaluation

AGENCY: Office of National Drug Control Policy.

ACTION: 30-Day notice and request for comments.

SUMMARY: In accordance with the Paperwork Reduction Act of 1995, the Office of National Drug Control Policy (ONDCP) announces it will submit to the Office of Management and Budget (OMB) Office of Information and Regulatory Affairs (OIRA) an information collection request (ICR). The Federal Register notice that solicited public comment on the information collection for a period of 60 days was published June 23, 2022. The purpose of this notice is to allow for an additional 30 days of public comments. OMB may act on ONDCP's ICR only after the 30-day comment period for this Notice has closed.

DATES: ONDCP encourages and will accept public comments on or before 30 days after the date of this publication.

ADDRESSES: Address all comments in writing within 30 days to Helen Hernandez. Email is the most reliable means of communication. Ms. Hernandez's email address is HHernandez@ondcp.eop.gov. Mailing address is: Executive Office of the President, Office of National Drug Control Policy, Drug-Free Communities (DFC) Support Program, 1800 G Street NW, Suite 9110 Washington, DC 20006.

SUPPLEMENTARY INFORMATION: Abstract: ONDCP administers the Drug-Free Communities (DFC) Support Program and Community-Based Coalition Enhancement Grants to Address Local Drug Crisis (CARA) Local Drug Crisis Programs. The DFC Program has two primary goals: To reduce youth substance abuse, and to support community anti-drug coalitions by establishing, strengthening, and fostering collaboration among public and private agencies. The CARA Local Drug Crisis grant program funds current or former DFC grant award recipients to focus on preventing and reducing the misuse of opioids, prescription medication, and the use of methamphetamines among youth ages 12-18 in communities throughout the United States.

Under reauthorization legislation (21 U.S.C. 1521), Congress mandated an evaluation of the DFC program to determine its effectiveness in meeting objectives. Under the CARA Local Drug Crisis program statute, CARA Local Drug Crisis data collection is authorized and required by Public Law 114-198 Sec 103, “a grant under this section shall be subject to the same evaluation requirements and procedures as the evaluation requirements and procedures imposed on the recipients of a grant under the Drug-Free Communities Act of 1997, and may also include an evaluation of the effectiveness at reducing abuse of opioids or methamphetamines”. ONDCP awarded a contract for a DFC grant oversight system at the end of 2014, following a competitive request for proposals process. The DFC Management and Evaluation (DFC Me) system was launched in 2016. An additional award was made in 2019, with the requirement to include CARA Local Drug Crisis recipients in the system and DFC & CARA Me continues to be used and updated (https://dfcme.ondcp.eop.gov) regularly to support grant recipients. The development and implementation of the DFC & CARA Me system provided an improved platform for DFC & CARA recipients to meet data reporting requirements of the grant, introduced a DFC Learning Center where resources and success stories can be shared, and strengthened ONDCP's continued oversight of the programs. The data collected through this system is more user friendly and validates data during entry, therefore reducing the burden on grant award recipients.

ONDCP's Drug-Free Communities office will continue to utilize the case study protocols previously approved by OMB to document coalition practices, successes and challenges. Approximately nine DFC grant award recipients are selected each year to highlight in the case studies. The information from the case studies will be used to illustrate not only what works to reduce drug use in a community setting, but also how and why it works.

The CARA Local Drug Crisis program evaluation makes use of a shortened version of the DFC progress report to support evaluation, monitoring and tracking of progress annually for grant award recipients and will provide information to ONDCP and the Administration's effort to address the opioid crisis.

ONDCP published a 60-day notice in the Federal Register, 87 FR 37530 (June 23, 2022). There were no comments received.

Title of Information Collection: Web-based data collection, surveys and interviews of DFC and CARA Local Drug Crisis grant award recipients.

Title: Drug-Free Communities (DFC) Support Program and CARA Local Drug Crisis Program National Cross Site Evaluation.

Frequency: Previously, DFC required semi-annual progress reports, this package recommends a shift to annual progress reports by DFC and CARA Local Drug Crisis Program Directors via DFC & CARA Me. DFC Program Directors also submit annual Coalition Classification Tool (CCT) data in DFC & CARA Me. Core measures are collected and submitted every two years in progress reports for both grant programs. Case study interviews and electronic surveys of Program Directors and electronic surveys of selected coalition members will be accomplished once a year.

Affected Public: DFC current grant award recipients and CARA Local Drug Crisis grant award recipients (includes both current and former DFC grant award recipients).

Estimated Burden: ONDCP expects that the time required to complete each DFC annual report via DFC & CARA Me will be approximately 24 hours, and each CCT report will take approximately two hours to complete. Face to face interviews will take 1-2 hours. The estimated total amount of time required by all DFC respondents over one year, including Program Directors and recipients to complete DFC & CARA Me, CCT, surveys, and interviews, is 19,622 hours. ONDCP expects that the time required to complete each CARA Local Drug Crisis annual report via DFC & CARA Me will be approximately 10 hours, with an estimated total time for all respondents to complete of 650 hours. The combined hour burden is 20,272 hours.

Goals: ONDCP intends to use the data of the DFC & CARA National Evaluations to assess each Program's effectiveness in preventing and reducing youth substance use. Two primary objectives of the evaluation are to: (1) Regularly monitor, measure and analyze data in order to report on the progress of each program and its recipients on program goals, and (2) providing technical assistance support to grant award recipients in effectively collecting and submitting data and in understanding the role of data in driving local coalition efforts. In addition, ONDCP intends to use the data from the CARA Local Drug Crisis grant award recipients to inform ONDCP and the Administration's efforts to address the opioid crisis.

Comment Request: ONDCP especially invites comments on: Whether the proposed data are proper for the functions of the agency; whether the information will have practical utility; the accuracy of ONDCP's estimate of the burden of the proposed collection of information, including the validity of the methodology and assumptions; ways to enhance the quality, utility, and clarity of the information to be collected; and, ways to ease the burden on proposed respondents, including the use of automated collection techniques or other forms of information technology. Comments will be accepted for thirty days.

Dated: September 22, 2022.
Robert Kent,
General Counsel.

[FR Doc. 2022-20912 Filed 9-27-22; 8:45 am]

BILLING CODE 3280-F5-P